DEPARTMENT OF LABOR

Employment and Training Administration

[TA-W-72,971]

ASC Machine Tools, Inc., Spokane Valley, WA; Notice of Affirmative Determination Regarding Application for Reconsideration

By application dated September 21, 2010, a representative of the International Association of Machinists and Aerospace Workers (IAM&AW), District Lodge 751, requested administrative reconsideration of the negative determination regarding workers' eligibility to apply for Trade Adjustment Assistance (TAA) applicable to workers and former workers of ASC Machine Tools, Inc., Spokane Valley, Washington (the subject firm). The Notice of negative determination was issued on August 11, 2010 and published in the Federal Register on August 30, 2010 (75 FR 52986). The workers produce custom-order metal cutting machinery used to form and cut metal, including assembled equipment, component parts of equipment, and spare parts.

The negative determination was based on the findings that the subject firm sales decline was due to loss of export sales of foreign customers' bids to competitors outside the United States. The initial investigation also revealed decreased aggregate imports of metal cutting equipment during the relevant period and that the subject firm is not a supplier or downstream producer for any firm that employed a worker group eligible to apply for TAA.

The union official, in the request for reconsideration, alleges increased imports from Sen Fung Rollform Machinery Corporation in Taiwan and Metform International in Canada. The union official also articulates the concern that “the affected workers are being penalized due to the inconsistent customer base of the company” and requests that aggregate import data during 2007 and 2008 be considered.

The Department has carefully reviewed the request for reconsideration and the existing record, and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 7th day of October 2010.
Del Min Amy Chen,
Certifying Officer, Office of Trade Adjustment Assistance.

[FR Doc. 2010-26902 Filed 10-22-10; 8:45 am]

BILLING CODE 4510-FN-P